DEPARTMENT OF TRANSPORTATION

Federal Motor Carrier Safety Administration

Sunshine Act Meetings; Unified Carrier Registration Plan Board of Directors

AGENCY: Federal Motor Carrier Safety Administration (FMCSA), DOT.

ACTION: Notice of Unified Carrier Registration Plan Board of Directors Meeting.

TIME AND DATE: The meeting will be held on January 14, 2013, from 8:00 a.m. to 5:00 p.m., Central Daylight Time.

PLACE: This meeting will take place at the Hyatt French Quarter; 800 Iberville Street, New Orleans, LA 70112.

STATUS: Open to the public.

MATTERS TO BE CONSIDERED: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Board of Directors at (505) 827-4565.

Issued on: December 28, 2012.
Larry W. Minor,
Associate Administrator, Office of Policy, Federal Motor Carrier Safety Administration.

[FR Doc. 2013-00314 Filed 1-7-13; 11:15 am]

BILLING CODE 4910-EX-P